DEPARTMENT OF TRANSPORTATION

Surface Transportation Board

[STB Finance Docket No. 34094]

Santa Clara Valley Transportation Authority—Acquisition Exemption—Union Pacific Railroad Company

Santa Clara Valley Transportation Authority (VTA), a noncarrier, has filed a verified notice of exemption under 49 CFR 1150.31 to acquire Union Pacific Railroad Company's (UP) railroad right-of-way and certain related improvements located in Santa Clara County, CA (line). The line is located between the south side of San Carlos Avenue at approximately UP milepost 0.08, in San Jose, and the northerly boundary of the State Route 85 overpass at approximately UP milepost 5.77, in Vasona. VTA also will be acquiring UP's trackage, but not the underlying real estate constituting the right-of-way, between the point of switch off the UP Peninsula Corridor Main Line, at approximately UP milepost 0.00, and approximately UP milepost 0.08, on the Vasona Branch. The total distance of the right-of-way and trackage being acquired by VTA is approximately 5.8 route miles. VTA is acquiring the line in order to construct and operate an extension to its light rail transit system on a portion of the right-of-way. UP will retain a perpetual, exclusive easement for the continuation of freight rail service on the line. VTA will not obtain the right or obligation to conduct freight rail service on any portion of the line.

While the verified notice of exemption failed to indicate the proposed time schedule for consummation of this transaction, the earliest the transaction could be consummated was September 14, 2001, the effective date of the exemption. See 49 CFR 1150.33(e)(2).

If the notice contains false or misleading information, the exemption is void ab initio.¹ Petitions to reopen the proceeding to revoke the exemption under 49 U.S.C. 10502(d) may be filed at any time. The filing of a petition to revoke will not automatically stay the transaction.

¹ A motion to dismiss has been filed by VTA in this proceeding. The motion will be addressed in a subsequent Board decision.

An original and 10 copies of all pleadings, referring to STB Finance Docket No. 34094, must be filed with the Surface Transportation Board, Office of the Secretary, Case Control Unit, 1925 K Street, NW., Washington, DC 20423-0001. In addition, a copy of each pleading must be served on Kevin M. Sheys, Esq., Kirkpatrick & Lockhart LLP, 1800 Massachusetts Avenue, NW., Second Floor, Washington, DC 20036.

Board decisions and notices are available on our website at www.stb.dot.gov.

Decided: September 26, 2001.
By the Board, David M. Konschnik, Director, Office of Proceedings.
Vernon A. Williams,
Secretary.

[FR Doc. 01-24687 Filed 10-3-01; 8:45 am]

BILLING CODE 4915-00-P